DEPARTMENT OF ENERGY

Federal Energy Regulatory Commission

Combined Notice of Filings

Take notice that the Commission has received the following Natural Gas Pipeline Rate and Refund Report filings:

Filings Instituting Proceedings

Docket Numbers: RP18-637-001.

Applicants: Kern River Gas Transmission Company.

Description: Tariff Amendment: 2018 Correction to Effective Date for Sheet 5A.02 to be effective 5/1/2018.

Filed Date: 4/5/18.

Accession Number: 20180405-5154.

Comments Due: 5 p.m. ET 4/17/18.

Docket Numbers: RP18-686-000.

Applicants: El Paso Natural Gas Company, L.L.C.

Description: § 4(d) Rate Filing: Non-Conforming Negotiated Rate Agreement Filing (Apache May 18) to be effective 5/6/2018.

Filed Date: 4/5/18.

Accession Number: 20180405-5190.

Comments Due: 5 p.m. ET 4/17/18.

Docket Numbers: RP18-687-000.

Applicants: Texas Gas Transmission, LLC.

Description: § 4(d) Rate Filing: Remove Expired Agmts from Tariff eff 4-6-2018 to be effective 4/6/2018.

Filed Date: 4/6/18.

Accession Number: 20180406-5013.

Comments Due: 5 p.m. ET 4/18/18.

Docket Numbers: RP18-688-000.

Applicants: Texas Eastern Transmission, LP.

Description: § 4(d) Rate Filing: TETLP Apr2018 Negotiated Rates Cleanup to be effective 5/6/2018.

Filed Date: 4/6/18.

Accession Number: 20180406-5091.

Comments Due: 5 p.m. ET 4/18/18.

Docket Numbers: RP18-689-000.

Applicants: Algonquin Gas Transmission, LLC.

Description: § 4(d) Rate Filing: AGT Apr2018 Negotiated Rates Cleanup to be effective 5/6/2018.

Filed Date: 4/6/18.

Accession Number: 20180406-5104.

Comments Due: 5 p.m. ET 4/18/18.

Docket Numbers: RP18-690-000.

Applicants: Columbia Gas Transmission, LLC.

Description: § 4(d) Rate Filing: Negotiated Rate Amendments—Core to be effective 4/2/2018.

Filed Date: 4/6/18.

Accession Number: 20180406-5125.

Comments Due: 5 p.m. ET 4/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2018.
Nathaniel J. Davis, Sr.,
Deputy Secretary.

[FR Doc. 2018-07882 Filed 4-13-18; 8:45 am]

BILLING CODE 6717-01-P